DEPARTMENT OF COMMERCE

National Oceanic and Atmospheric Administration

Ocean Exploration Advisory Board

AGENCY: Office of Ocean Exploration and Research (OER), National Oceanic and Atmospheric Administration (NOAA), Department of Commerce (DOC).

ACTION: Solicitation of Applications.

SUMMARY: NOAA is soliciting applications to fill up to six membership vacancies on the Ocean Exploration Advisory Board (OEAB). The new OEAB members will serve initial three-year terms, renewable once.

DATES: Application materials must be received no later than March 30, 2020.

ADDRESSES: Submit application materials to Christa Rabenold via mail or email. Mail: NOAA/OER, 1315 East West Highway, SSMC3 Rm 10310, Silver Spring, MD, 20910; Email: christa.rabenold@noaa.gov.

FOR FURTHER INFORMATION CONTACT: David McKinnie, OEAB Designated Federal Officer, NOAA/OER, 7600 Sand Point Way NE, Seattle, WA 98115; 206-526-6950; david.mckinnie@noaa.gov.

SUPPLEMENTARY INFORMATION: NOAA is soliciting applications to fill up to six vacancies on the OEAB with individuals demonstrating expertise in areas relevant to the statutory purpose of the OEAB and the ocean exploration act established under 33 U.S.C. 3401 et seq. The new OEAB members will serve initial three-year terms, renewable once.

The purpose of the OEAB is to advise the NOAA Administrator on matters pertaining to ocean exploration. The OEAB functions as an advisory body in accordance with the Federal Advisory Committee Act (FACA), as amended, 5 U.S.C. App., with the exception of section 14. It reports to the NOAA Administrator, as directed by 33 U.S.C. 3405.

The OEAB consists of approximately ten members, including a chair and co-chair(s), designated by the NOAA Administrator in accordance with FACA requirements and the terms of the approved OEAB Charter.

The OEAB was established:

(1) To advise the Administrator on priority areas for survey and discovery;

(2) To assist the program in the development of a five-year strategic plan for the fields of ocean, marine, and Great Lakes science, exploration, and discovery;

(3) To annually review the quality and effectiveness of the proposal review process established under section 12003(a)(4); and

(4) To provide other assistance and advice as requested by the Administrator.

OEAB members are appointed as special government employees (SGEs) and will be subject to the ethical standards applicable to SGEs. Members are reimbursed for actual and reasonable expenses incurred in performing such duties but will not be reimbursed for their time. All OEAB members serve at the discretion of the NOAA Administrator.

The OEAB meets three to four times each year, exclusive of subcommittee, task force, and working group meetings.

As a Federal Advisory Committee, the OEAB's membership is required to be balanced in terms of viewpoints represented and the functions to be performed as well as including the interests of geographic regions of the country and the diverse sectors of our society.

For more information about the OEAB, please visit https://oeab.noaa.gov.

Although the OEAB reports directly to the NOAA Administrator, OER, which is part of the NOAA Office of Oceanic and Atmospheric Research, provides staffing and other support for the OEAB. OER's mission is to explore the ocean for national benefit.

OER:

• Explores the ocean to make discoveries of scientific, economic, and cultural value, with priority given to the U.S. Exclusive Economic Zone and Extended Continental Shelf;

• Promotes technological innovation to advance ocean exploration;

• Provides public access to data and information;

• Encourages the next generation of ocean explorers, scientists, and engineers; and,

• Expands the national ocean exploration program through partnerships.

For more information about OER, please visit https://oceanexplorer.noaa.gov.

Applications: An application is required to be considered for OEAB membership. To apply, please submit (1) your full name, title, institutional affiliation, and contact information (mailing address, email address, telephone and fax numbers); (2) a short description of your qualifications relative to the statutory purpose of the OEAB and the ocean exploration act established under 33 U.S.C. 3401 et seq.; (3) a resume or curriculum vitae (maximum length four pages); and (4) a cover letter stating your interest in serving on the OEAB and highlighting specific areas of expertise relevant to the purpose of the OEAB.

Dated: February 10, 2020.
David Holst,
Chief Financial Officer/Administrative Officer, Office of Oceanic and Atmospheric Research, National Oceanic and Atmospheric Administration.

[FR Doc. 2020-04125 Filed 2-27-20; 8:45 am]

BILLING CODE 3510-KA-P